NUCLEAR REGULATORY COMMISSION

[Docket No. 50-608; NRC-2022-0135]

SHINE Medical Technologies, LLC; Medical Isotope Production Facility

AGENCY: Nuclear Regulatory Commission.

ACTION: Supplement to the final environmental impact statement; issuance.

SUMMARY: The U.S. Nuclear Regulatory Commission (NRC) has issued Supplement 1 to NUREG-2183, “Environmental Impact Statement Supplement Related to the Operating License for the SHINE Medical Isotope Production Facility.” NUREG-2183 was issued October 2015. SHINE Medical Technologies, LLC (SHINE) is requesting a license to operate the Medical Isotope Production Facility (SHINE facility) in Janesville, Wisconsin.

DATES: Supplement 1 to NUREG-2183 referenced in this document is available as of January 31, 2023.

ADDRESSES: Please refer to Docket ID NRC-2022-0135 when contacting the NRC about the availability of information regarding this document. You may obtain publicly available information related to this document using any of the following methods:

• Federal Rulemaking website: Go to https://www.regulations.gov and search for Docket ID NRC-2022-0135. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. Supplement 1 to NUREG-2183 is available in ADAMS under Accession No. ML23026A312.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

• Public Library: Supplement 1 to NUREG-2183 is available for public inspection at the Hedberg Public Library, 316 South Main Street, Janesville, WI, 53545.

FOR FURTHER INFORMATION CONTACT: Lance J. Rakovan, Office of Nuclear Material Safety and Safeguards, U.S. Nuclear Regulatory Commission, Washington DC 20555-0001; telephone: 301-415-2589; email: Lance.Rakovan@nrc.gov.

SUPPLEMENTARY INFORMATION:

I. Background

When a final environmental impact statement (FEIS) has been prepared in connection with the issuance of a construction permit for a production or utilization facility, the NRC staff is required to prepare a supplement to the FEIS in connection with any issuance of an operating license for that facility in accordance with paragraph 51.95 (b) of title 10 of the Code of Federal Regulations. This supplement updates the prior environmental review and only covers matters that differ from those or that reflect significant new information relative to that discussed in the FEIS. Accordingly, in response to an operating license application for the SHINE facility, the NRC staff prepared Supplement 1 to NUREG-2183, the FEIS, on the SHINE facility construction permit application. The NRC published for public comment a draft of Supplement 1 to NUREG-2183 in the Federal Register on July 8, 2022 (87 FR 40868). The NRC also held a public meeting on July 27, 2022, to collect comments on the draft of Supplement 1 to NUREG-2183. The public comment period ended on August 22, 2022, and the comments received are addressed in the final draft of Supplement 1 to NUREG-2183. Supplement 1 to NUREG-2183 is available as indicated in the ADDRESSES section of this document.

II. Discussion

The NRC issued Supplement 1 to NUREG-2183 on January 31, 2023. Supplement 1 to NUREG-2183 updates the prior environmental review by the NRC staff for the SHINE facility construction permit application and only covers matters that differ from or that reflect significant new information concerning matters discussed in NUREG-2183. Supplement 1 to NUREG-2183 includes the NRC staff's analysis of the environmental impacts of the proposed action of deciding whether to issue a license to SHINE to operate the SHINE facility for a period of 30 years. After weighing the environmental, economic, technical, and other benefits against environmental and other costs, the NRC staff recommends, unless safety issues mandate otherwise, the issuance of an operating license to SHINE for the SHINE facility. This recommendation is based on: (1) the operating license application, including SHINE's supplemental environmental report; (2) consultation with Federal, State, Tribal, and local agencies; (3) the staff's independent review; and (4) the consideration of public comments.

Dated: February 1, 2023.
For the Nuclear Regulatory Commission.
Theodore B. Smith,
Chief, Environmental Review License Renewal Branch, Division of Rulemaking, Environmental, and Financial Support, Office of Nuclear Material Safety and Safeguards.

[FR Doc. 2023-02419 Filed 2-6-23; 8:45 am]

BILLING CODE 7590-01-P